DEPARTMENT OF HEALTH AND HUMAN SERVICES

Administration for Children and Families

Administration for Native Americans; Notice of Meeting

AGENCY: Department of Health and Human Services, Administration for Children and Families.

ACTION: Notice of Tribal Consultation.

SUMMARY: The Department of Health and Human Services (HHS), Administration for Children and Families (ACF) will host a tribal consultation to solicit input on the agency's draft tribal consultation policy.

DATES: September 29, 2010.

ADDRESSES: The Fairfax at Embassy Row, 2100 Massachusetts Ave., NW., Washington, DC 20008.

FOR FURTHER INFORMATION CONTACT: Lillian A. Sparks, Commissioner, Administration for Native Americans, at 202-401-5590, by e-mail at Lillian.sparks@acf.hhs.gov or by mail at 370 L'Enfant Promenade, SW., 2 West, Washington, DC 20447.

SUPPLEMENTARY INFORMATION: On November 5, 2009, President Obama signed the “Memorandum for the Heads of Executive Departments and Agencies on Tribal Consultation.” The President stated that his Administration is committed to regular and meaningful consultation and collaboration with tribal officials in policy decisions that have tribal implications, including, as an initial step, through complete and consistent implementation of Executive Order 13175.

The United States has a unique legal and political relationship with Indian tribal governments, established through and confirmed by the Constitution of the United States, treaties, statutes, executive orders, and judicial decisions. In recognition of that special relationship, pursuant to Executive Order 13175 of November 6, 2000, executive departments and agencies are charged with engaging in regular and meaningful consultation and collaboration with tribal officials in the development of Federal policies that have tribal implications, and are responsible for strengthening the government-to-government relationship between the United States and Indian tribes.

HHS has taken its responsibility to comply with Executive Order 13175 very seriously over the past decade; including the initial implementation of a Department-wide policy on tribal consultation and coordination in 1997, and through multiple evaluations and revisions of that policy, most recently in 2008. Many HHS agencies have already developed their own agency-specific consultation policies that complement the Department-wide efforts.

Since 2005, ACF has been working under the guidance of the HHS policy issued in 2005 and updated in 2008. Due to the various programs administered by ACF and the many requests from tribes for consultation for specific programs, as well as specific program mandates for tribal consultation, ACF has decided to create an ACF tribal consultation policy to help ACF program and regional offices better engage Federally Recognized Indian Tribes in the development or revision of policies, regulations and proposed legislation that impact American Indians. ACF firmly believes that to create a good policy, ACF needs input from tribes to ensure that ACF is meeting tribal needs and to establish a partnership that can carry into the future.

Testimonies may be submitted no later than September 21, 2010, to: Lillian Sparks, Commissioner, Administration for Native Americans, 370 L'Enfant Promenade, SW., Washington, DC 20447, anacommissioner@acf.hhs.gov.

ACF assembled a Tribal/Federal Workgroup to develop a draft policy and is asking Tribal Leaders to read the draft policy that will be sent to them in a letter prior to the scheduled consultation date. At the consultation session planned for September 29, 2010, ACF is interested in receiving tribal feedback on the policy and in working with tribal representatives to further refine a policy that meets both ACF and tribal needs, and works towards solidifying the partnership between ACF and tribes.

In addition to the tribal consultation session, ACF will be hosting a tribal resources day to provide information about ACF programs, funding opportunities and tools on how to use ACF funding to create comprehensive community programs. The resources day will take place on September 28, 2010, at the same above address. ACF is encouraging tribes to send their tribal planning officers or comparable employee to attend the tribal resources day.

Dated: August 26, 2010.
David A. Hansell,
Acting Assistant Secretary for Children and Families.

[FR Doc. 2010-21915 Filed 9-1-10; 8:45 am]

BILLING CODE 4184-34-M